DEPARTMENT OF HEALTH AND HUMAN SERVICES

Meeting of the COVID-19 Health Equity Task Force

AGENCY: Office of the Assistant Secretary for Health, Office of the Secretary, Department of Health and Human Services.

ACTION: Notice of meeting.

SUMMARY: As required by the Federal Advisory Committee Act, the U.S. Department of Health and Human Services (HHS) is hereby giving notice that the COVID-19 Health Equity Task Force (Task Force) will hold a virtual meeting on February 26, 2021. The purpose of this meeting is to introduce Task Force members and to outline the charges as directed by Executive Order 13995, Ensuring an Equitable Pandemic Response and Recovery. This meeting is open to the public. Pre-registration is encouraged for members of the public who wish to attend the meeting and who wish to participate in the public comment session. Information about the meeting will be posted on the HHS Office of Minority Health website: https://minorityhealth.hhs.gov/ prior to the meeting. Pre-registration for the meeting must be completed by 5 p.m. ET, Wednesday, February 24, 2021.

DATES: The Task Force meeting will be held on Friday, February 26, 2021, from 3 p.m. to 5 p.m. ET (times are tentative and subject to change). The confirmed time and agenda will be posted on the HHS Office of Minority Health website: https://minorityhealth.hhs.gov/ when this information becomes available.

FOR FURTHER INFORMATION CONTACT: Samuel Wu, Designated Federal Officer for the Task Force; Office of Minority Health, Department of Health and Human Services, Tower Building, 1101 Wootton Parkway, Suite 100, Rockville, Maryland 20852. Phone: 240-453-6173; email: COVID19HETF@hhs.gov.

SUPPLEMENTARY INFORMATION:

Background: COVID-19 Health Equity Task Force (Task Force) was established by the Executive Order 13995, dated January 21, 2021. The Task Force is tasked with developing a set of recommendations to the President, through the Coordinator of the COVID-19 Response and Counselor to the President (COVID-19 Response Coordinator) for mitigating the health inequities caused or exacerbated by the COVID-19 pandemic and for preventing such inequities in the future. The Task Force shall submit a final report to the COVID-19 Response Coordinator addressing any ongoing health inequities faced by COVID-19 survivors that may merit a public health response, describing the factors that contributed to disparities in COVID-19 outcomes, and recommending actions to combat such disparities in future pandemic responses.

The meeting is open to the public. Please register for the meeting by sending a request to COVID19HETF@hhs.gov by 5:00 p.m. ET on February 24, 2021. After registering, you will receive an email confirmation with a link to access the webcast. Members of the public will have the opportunity to provide comments during the meeting. Comments will be limited to no more than three minutes per speaker. Any individual who wishes to participate in the public comment session must register by sending a request to: COVID19HETF@hhs.gov by close of business on February 24, 2021. Please provide name, affiliation, phone number, and email address. Individuals are encouraged to provide a written statement of any public comment(s) for accurate minute-taking purposes. Comments should be pertinent to the meeting discussion. Individuals who plan to attend and need special assistance, such as sign language interpretation or other reasonable accommodations, should contact: COVID19HETF@hhs.gov and reference this meeting. Requests for special accommodations should be made at least ten (10) business days prior to the meeting.

Dated: February 9, 2021.
Samuel Wu,
Designated Federal Officer, COVID-19 Health Equity Task Force.

[FR Doc. 2021-02892 Filed 2-11-21; 8:45 am]

BILLING CODE 4150-29-P